SMALL BUSINESS ADMINISTRATION

[Disaster Declaration #11166]

Arkansas Disaster Number AR-00016

AGENCY: U.S. Small Business Administration.

ACTION: Amendment 1.

SUMMARY: This is an amendment of the Presidential declaration of a major disaster for Public Assistance Only for the State of Arkansas (FEMA-1744-DR), dated 02/07/2008.

Incident: Severe Storms, Tornadoes, and Flooding.

Incident Period: 02/05/2008 and continuing.

DATES: Effective Date: 02/20/2008.

Physical Loan Application Deadline Date: 04/07/2008.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Arkansas, dated 02/07/2008, is hereby amended to include the following areas as adversely affected by the disaster.

Primary Counties:

Newton

Marion

All other information in the original declaration remains unchanged.

(Catalog of Federal Domestic Assistance Number 59008)

James E. Rivera,
Acting Associate Administrator for Disaster Assistance.

[FR Doc. E8-3855 Filed 2-28-08; 8:45 am]

BILLING CODE 8025-01-P